DEPARTMENT OF HOMELAND SECURITY

Federal Emergency Management Agency

[Docket ID FEMA-2015-0001; Internal Agency Docket No. FEMA-B-1473]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: February 11, 2015.
Roy E. Wright,
Deputy Associate Administrator for Mitigation, Department of Homeland Security, Federal Emergency Management Agency.

State and county | Location and case No. | Chief executive officer of community | Community map repository | Online location of letter of map revision | Effective date of modification | Community No.
Connecticut: New Haven | Town of Branford (15-01-0490P) | Mr. James B. Cosgrove, First Selectman, Town of Branford, 1019 Main Street, Branford, CT 06405 | 1019 Main Street Branford, CT 06405 | http://www.msc.fema.gov/lomc | April 22, 2015 | 090073
Illinois:
Kane | City of Elgin (14-05-4054P) | The Honorable Dave Kaptain, Mayor, City of Elgin, 150 Dexter Court, Elgin, IL | 150 Dexter Court Elgin, IL | http://www.msc.fema.gov/lomc | May 6, 2015 | 170087
Adams | City of Quincy (14-05-9049P) | The Honorable Kyle Moore, Mayor, City of Quincy, 730 Main Street, Quincy, IL 62301 | 730 Main Street, Quincy, IL 62301 | http://www.msc.fema.gov/lomc | May 22, 2015 | 17003
Adams | Unincorporated Areas of Adams County (14-05-9049P) | The Honorable Les Post, Chairman, Adams County, 101 North 54th Street, Quincy, IL 62305 | 101 North 54th Street, Quincy, IL 62305 | http://www.msc.fema.gov/lomc | May 22, 2015 | 17001
Indiana:
Clark | City of Jefferson (14-05-9401P) | The Honorable Mike Moore, Mayor, City of Jeffersonville, 500 Quartermaster Court, Suite 250, Jeffersonville, IN 47130 | 500 Quartermaster Court, Jeffersonville, IN 47130 | http://www.msc.fema.gov/lomc | April 17, 2015 | 180027
Clark | Town of Utica (14-05-9401P) | The Honorable Hank Dorman, Board President, Town of Utica, 736 Utica Charlestown Road, Utica, IN 47130 | 736 Utica Charlestown Road, Utica, IN 47130 | http://www.msc.fema.gov/lomc | April 17, 2015 | 180487
Clark | Unincorporated Areas of Clark County (14-05-9401P) | The Honorable Jack Coffman, President, County Commissioners, 501 East Court Avenue, Room 404, Jeffersonville, IN 47130 | 501 East Court Avenue Jeffersonville, IN 47130 | http://www.msc.fema.gov/lomc | April 17, 2015 | 180426
Missouri: Jasper | City of Joplin (14-07-0736P) | The Honorable Michael Seibert, Mayor, City of Joplin, 602 South Main Street, Joplin, MO 64801 | 602 South Main Street Joplin, MO 64801 | http://www.msc.fema.gov/lomc | May 26, 2015 | 290183
Ohio:
Franklin | City of Columbus (15-05-0192X) | The Honorable Michael B. Coleman, Mayor, City of Columbus, 90 West Broad Street, 2nd Floor, Columbus, OH 43215 | 90 West Broad Street Columbus, OH 43215 | http://www.msc.fema.gov/lomc | May 14, 2015 | 390170
Delaware | Unincorporated Areas of Delaware County (14-05-3856P) | The Honorable Gary Merrell, President, Delaware County Board of Commissioners, 101 North Sandusky Street, Delaware, OH 43015 | 101 North Sandusky Street, Delaware, OH 43015 | http://www.msc.fema.gov/lomc | May 13, 2015 | 390146
Marion | Unincorporated Areas of Marion County (14-05-3856P) | The Honorable Daniel L. Russell, Marion County Board of Commissioners, 222 West Center Street, Marion, OH 43302 | 222 West Center Street Marion, OH 43302 | http://www.msc.fema.gov/lomc | May 13, 2015 | 390774
Oregon:
Washington | City of Hillsboro (14-10-1501P) | The Honorable Jerry Willey, Mayor, City of Hillsboro, 150 East Main Street, Hillsboro, OR 97123 | 150 East Main Street, Hillsboro, OR 97123 | http://www.msc.fema.gov/lomc | May 18, 2015 | 410243
Washington | Unincorporated Areas of Washington County (14-10-1501P) | The Honorable Andy Duyck, Chairman, Board of Directors, Washington County, 155 North 1st Avenue, Suite 300, Hillsboro, OR 97124 | 155 North 1st Avenue, Hillsboro, OR 97124 | http://www.msc.fema.gov/lomc | May 18, 2015 | 410238
Wisconsin: Portage | City of Stevens Point (13-05-4844P) | The Honorable Gary Wescott, Mayor, City of Steven Point, 1515 Strongs Avenue, Stevens Point, WI 54481 | 1515 Strongs Avenue, Stevens Point, WI 54481 | http://www.msc.fema.gov/lomc | May 15, 2015 | 550342

[FR Doc. 2015-05067 Filed 3-4-15; 8:45 am]

BILLING CODE 9110-12-P